DEPARTMENT OF COMMERCE

National Institute of Standards and Technology

Announcing a Meeting of the Information Security and Privacy Advisory Board

AGENCY: National Institute of Standards and Technology, Commerce.

ACTION: Meeting notice.

SUMMARY: Pursuant to the Federal Advisory Committee Act, 5 U.S.C. App., notice is hereby given that the Information Security and Privacy Advisory Board (ISPAB) will meet Wednesday, April 1, 2009 from 8:30 a.m. until 5 p.m., Thursday, April 2, 2009, from 8:30 a.m. until 5 p.m., and Friday, April 3, 2009 from 8 a.m. until 12:15 p.m. All sessions will be open to the public. The ISPAB was established by the Computer Security Act of 1987 (Pub. L. 100-235) and amended by the Federal Information Security Management Act of 2002 (Pub. L. 107-347) to advise the Secretary of Commerce and the Director of NIST on security and privacy issues pertaining to federal computer systems. Details regarding the ISPAB's activities are available at http://csrc.nist.gov/groups/SMA/ispab/index.html/.

DATES: The meeting will be held on April 1, 2009, from 8:30 a.m. until 5 p.m., April 2, 2009, from 8:30 a.m. until 5 p.m. and April 3, 2009, from 8 a.m. until 12:15 p.m.

ADDRESSES: The meeting will take place at West Parlor Dining Room, George Washington University, 1918 F Street, NW., Dining Room Conference, Washington, DC on April 1, 2009, and the George Washington University Cafritz Conference Center, 800 21st Street, NW., Room 307, Washington, DC on April 2 & 3, 2009.

FOR FURTHER INFORMATION CONTACT: Ms. Pauline Bowen, ISPAB Secretariat, Information Technology Laboratory, National Institute of Standards and Technology, 100 Bureau Drive, Stop 8930, Gaithersburg, MD 20899-8930, telephone: (301) 975-2938.

SUPPLEMENTARY INFORMATION:

Agenda

—DNS Sec Report.

—Standard OMB Update.

—FNS and Tools of CERT.

—Open Government & Security.

—ID Management Framework.

—Supply Chain Risk Management.

—Privacy Report.

—NIST Update.

—Follow-up Discussion On Cloud Computing.

—Board Discussion on NIST Standards and Guidelines.

—Stimulus and Cyber Security—CIO Panel.

—FISMA—What's happening on the Hill?

—Discussion of White House 60-day Review.

—Consensus Audit Guidelines.

Note that agenda items may change without notice because of possible unexpected schedule conflicts of presenters. The final agenda will be posted on the Web site indicated above.

Public Participation: The ISPAB agenda will include a period of time, not to exceed thirty minutes, for oral comments from the public (Thursday, April 2, 2009, at 3:15-3:45 p.m.). Each speaker will be limited to five minutes. Members of the public who are interested in speaking are asked to contact the ISPAB Secretariat at the telephone number indicated above. In addition, written statements are invited and may be submitted to the ISPAB at any time. Written statements should be directed to the ISPAB Secretariat, Information Technology Laboratory, 100 Bureau Drive, Stop 8930, National Institute of Standards and Technology, Gaithersburg, MD 20899-8930. Approximately 15 seats will be available for the public and media on April 1-3, 2009.

Dated: March 10, 2009.
Patrick Gallagher,
Deputy Director.

[FR Doc. E9-5745 Filed 3-16-09; 8:45 am]

BILLING CODE 3510-13-P